ENVIRONMENTAL PROTECTION AGENCY

[ER-FRL-9051-2]

Environmental Impact Statements; Notice of Availability

Responsible Agency: Office of Federal Activities, General Information 202-564-5632 or https://www.epa.gov/nepa.

Weekly receipt of Environmental Impact Statements (EIS)

Filed May 22, 2020, 11:59 p.m. EST Through June 1, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200112, Draft, USACE, FL, Miami-Dade Back Bay Coastal Storm Risk Management Draft Integrated Feasibility Report and Programmatic Environmental Impact Statement, Comment Period Ends: 07/20/2020, Contact: Justine Woodward 757-201-7728.

EIS No. 20200114, Final, NOAA, WI, Wisconsin Shipwreck Coast National Marine Sanctuary, Designation, Review Period Ends: 07/06/2020, Contact: Russ Green 989-766-3359.

EIS No. 20200115, Final Supplement, USN, GU, Mariana Islands Training and Testing, Review Period Ends: 07/06/2020, Contact: Nora Macariola-See 808-472-1402.

EIS No. 20200116, Draft, USFWS, REG, Management of Conflicts Associated with Double-crested Cormorants, Comment Period Ends: 07/20/2020, Contact: Eric L. Kershner 571-565-0109.

EIS No. 20200117, Draft, USFWS, REG, Regulations Governing Take of Migratory Birds, Comment Period Ends: 07/20/2020, Contact: Eric L. Kershner 571-565-0109.

EIS No. 20200118, Draft, BR, UT, Lake Powell Pipeline Project, Comment Period Ends: 09/03/2020, Contact: Rick Baxter 801-379-1078.

Dated: June 1, 2020.
Cindy S. Barger,
Director, NEPA Compliance Division, Office of Federal Activities.

[FR Doc. 2020-12206 Filed 6-4-20; 8:45 am]

BILLING CODE 6560-50-P